DEPARTMENT OF COMMERCE

International Trade Administration

[A-583-830]

Preliminary Rescission of Antidumping Duty Administrative Review: Stainless Steel Plate in Coils From Taiwan

AGENCY: Import Administration, International Trade Administration, Department of Commerce.

ACTION: Notice of preliminary rescission in the antidumping duty administrative review of stainless steel plate in coils from Taiwan.

SUMMARY: On July 7, 2000, the Department of Commerce (“Department”) published a notice of initiation of an antidumping duty administrative review on stainless steel plate in coils from Taiwan. This review covers two manufacturers/exporters of the subject merchandise. The period of review (“POR”) is November 4, 1998 through April 30, 2000. The Department is now preliminarily rescinding this review based on record evidence indicating that there were no entries into the United States of subject merchandise during the POR.

EFFECTIVE DATE: December 4, 2000.

FOR FURTHER INFORMATION CONTACT: Juanita H. Chen or Rick Johnson, Enforcement Group III, Office 9, Import Administration, International Trade Administration, U.S. Department of Commerce, 1401 Constitution Avenue, NW., Washington, DC 20230, telephone 202-482-0409 (Chen) or 202-482-3818 (Johnson), fax 202-482-1388.

SUPPLEMENTARY INFORMATION:

Applicable Statute

Unless otherwise indicated, all citations to the Tariff Act of 1930 (“Act”) are references to the provisions effective January 1, 1995, the effective date of the amendments made to the Act by the Uruguay Round Agreements Act (“URAA”). In addition, unless otherwise indicated, all citations to the Department's regulations are to the regulations at 19 CFR part 351 (2000).

Background

On May 21, 1999, the Department published the antidumping duty order on stainless steel plate in coils from Taiwan. See Antidumping Duty Orders; Certain Stainless Steel Plate in Coils From Belgium, Canada, Italy, the Republic of Korea, South Africa, and Taiwan, 64 FR 27756 (May 21, 1999). On May 16, 2000, the Department published a notice of opportunity to request an administrative review of this order for the period November 4, 1998 through April 30, 2000. See Antidumping or Countervailing Duty Order, Finding, or Suspended Investigation; Opportunity to Request Administrative Review, 65 FR 31141 (May 16, 2000). Petitioners Allegheny Ludlum, AK Steel Corporation, Butler Armco Independent Union, J&L Specialty Steel, Inc., North American Stainless, United Steelworkers of America, AFL-CIO/CLC, and Zanesville Armco Independent Organization (collectively “petitioners”) timely requested that the Department conduct an administrative review of sales by Yieh United Steel Corporation (“YUSCO”), a Taiwan producer and exporter of subject merchandise, and Ta Chen Stainless Pipe Co., Ltd. (“Ta Chen”), a Taiwan exporter of subject merchandise. YUSCO also timely requested that the Department conduct an administrative review of YUSCO's sales. YUSCO withdrew its request for review on July 19, 2000. On July 7, 2000, in accordance with section 751(a) of the Act, the Department published in the Federal Register a notice of initiation of this antidumping duty administrative review of sales by YUSCO and Ta Chen for the period November 4, 1998 through April 30, 2000. See Initiation of Antidumping and Countervailing Duty Administrative Reviews and Requests for Revocations in Part, 65 FR 41942 (July 7, 2000).

On July 10, 2000, the Department issued its antidumping duty questionnaire to YUSCO and Ta Chen. On July 19, 2000, along with withdrawing its request for an administrative review, YUSCO requested that the Department rescind this review, claiming it made no entries of subject merchandise into the United States during the POR. On July 27, 2000, the Department solicited comments on YUSCO's request for rescission. See Memo to the File from Juanita H. Chen (July 27, 2000). On August 8, 2000, YUSCO submitted its Section A response to the Department's questionnaire. YUSCO reiterated its request for rescission on August 16, 2000. Also on that date, petitioners filed comments opposing YUSCO's request for rescission, which included references to the original investigation indicating that Ta Chen's U.S. affiliate, Ta Chen International (CA) Corp. (“TCI”) made sales of YUSCO's merchandise during the POR and had additional inventory not yet sold.

On July 31, 2000, Ta Chen stated that it did not have any U.S. sales, shipments or entries of subject merchandise during the POR, and requested that it not be required to answer the Department's questionnaire. On August 1, 2000, the Department asked Ta Chen a supplemental question regarding shipments in the POR falling under a certain Harmonized Tariff Schedule of the United States (“HTS”) number, and gave Ta Chen an extension of time in which to respond to the antidumping duty questionnaire. On August 9, 2000, Ta Chen repeated its statement that it did not have any U.S. sales, shipments or entries during the POR, stated that imports under the HTS number were cut-to-length stainless steel plate and not subject merchandise, and repeated its request not to have to answer the Department's questionnaire. On August 24, 2000, the Department denied Ta Chen's request that it not be required to answer the questionnaire, and issued supplemental questions to Ta Chen. On August 31 and September 5, 2000, Ta Chen responded to the Department's supplemental questions, stating that of TCI's sales of YUSCO's merchandise from TCI's U.S. warehouse inventory during the POR, all merchandise entered before the POR. Ta Chen also stated that while there was a sale of subject merchandise from YUSCO to TCI during the POR, such subject merchandise entered the United States and was resold after the POR. Ta Chen also stated that, for these reasons, it did not intend on answering the Department's questionnaire. On September 12, 2000, petitioners submitted comments on Ta Chen's response to the Department's supplemental questions, arguing that the Department should review TCI's resales of YUSCO's merchandise as constructed export price (“CEP”) sales, citing to Silicon Metal from Brazil; Final Results of Antidumping Duty Administrative Review, 59 FR 42806 (August 19, 1994). Petitioners emphasized that they requested the review not only to liquidate entries during the review period but also to set a new cash deposit rate on future entries. On September 26, 2000, the Department informed Ta Chen of its intention to conduct a review of TCI's sales, and asked that Ta Chen submit its response no later than October 10, 2000. Ta Chen failed to submit a response.

On September 19, 2000, the Department conducted an inspection of Customs documentation at the U.S. Customs Service (“Customs”) in Long Beach, California. A review of a random sampling of entries during the POR revealed that none of the entries were of subject merchandise. See Memo to the File from Carrie Blozy and Juanita H. Chen (October 19, 2000). On October 24, 2000, the Department informed petitioners that as a result of this inspection, as well as a separate Customs inquiry, the Department is re-visiting the issue of whether it is appropriate to continue this administrative review. See Memo to the File from Juanita H. Chen through Edward Yang (October 25, 2000).

Scope of the Review

For purposes of this review, the product covered is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this review are the following: (1) Plate not in coils, (2) plate that is not annealed or otherwise heat treated and pickled or otherwise descaled, (3) sheet and strip, and (4) flat bars. In addition, certain cold-rolled stainless steel plate in coils is also excluded from the scope of these orders. The excluded cold-rolled stainless steel plate in coils is defined as that merchandise which meets the physical characteristics described above that has undergone a cold-reduction process that reduced the thickness of the steel by 25 percent or more, and has been annealed and pickled after this cold reduction process. The merchandise subject to this review is currently classifiable in the HTS at subheadings: 7219.11.00.30, 7219.11.00.60, 7219.12.00.05, 7219.12.00.20, 7219.12.00.25, 7219.12.00.50, 7219.12.00.55, 7219.12.00.65, 7219.12.0070, 7219.12.00.80, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTS subheadings are provided for convenience and Customs purposes, the written description of the merchandise under investigation is dispositive.

Period of Review

The POR is November 4, 1998 through April 30, 2000.

Preliminary Rescission of Review

The Department has previously determined that “{s}ales of merchandise that can be demonstrably linked with entries prior to the suspension of liquidation are not subject merchandise and therefore are not subject to review by the Department.” See Certain Stainless Wire Rods From France: Final Results of Antidumping Duty Administrative Review, 61 FR 47874, 47875 (September 11, 1996); see also Antidumping Duties; Countervailing Duties; Final rule, 62 FR 27295, 27314 (May 19, 1997).

Ta Chen has certified that of TCI's resales of YUSCO's merchandise from its U.S. warehouse inventory during the POR, all merchandise entered before the POR. Therefore, such merchandise entered prior to the suspension of liquidation. The only merchandise TCI purchased from YUSCO during the POR entered the United States and was resold after the POR. While petitioners reference evidence from the original investigation that TCI sold subject merchandise out of inventory on December 18, 1998, the Department's Customs inquiry indicates that such merchandise did not enter the United States after the suspension of liquidation. Accordingly, in this review, it has not been established that there were any sales of subject merchandise which entered during the POR.

Pursuant to 19 CFR 351.213(d)(3), the Department may rescind an administrative review, in whole or with respect to a particular exporter or producer, if the Secretary concludes that, during the period covered by the review, there were no entries, exports, or sales of the subject merchandise. Since the evidence shows that there were no entries of certain stainless steel plate in coils made by either YUSCO or Ta Chen from Taiwan during the POR, the Department is preliminarily rescinding this review in accordance with 19 CFR 351.213(d)(3). The cash deposit rate for YUSCO will remain at 8.02 percent, for YUSCO/Ta Chen will remain at 10.20 percent, and for “all other” producers/exporters of the subject merchandise will remain at 7.39 percent, the rates established in the most recent segment of this proceeding. See Notice of Final Determination of Sales at Less Than Fair Value: Stainless Steel Plate in Coils from Taiwan, 64 FR 15493 (March 31, 1999).

Pursuant to 19 CFR 351.309, interested parties may submit written comments in response to this preliminary rescission. Case briefs must be submitted within 14 days after the date of publication of this notice and rebuttal briefs, limited to arguments raised in the case briefs, must be submitted no later than 7 days after the time limit for filing case briefs. Case and rebuttal briefs must be served on interested parties in accordance with 19 CFR 351.303(f).

This notice is published in accordance with 19 CFR 351.213(d)(4).

Dated: November 21, 2000.
Troy H. Cribb,
Assistant Secretary for Import Administration.

[FR Doc. 00-30804 Filed 12-1-00; 8:45 am]

BILLING CODE 3510-DS-P